CONSUMER PRODUCT SAFETY COMMISSION

Sunshine Act Meeting

TIME AND DATE: Wednesday, March 12, 2025—10:00 a.m.

PLACE: 4330 East West Highway, Bethesda, Maryland 20814.

STATUS: Closed Commission meeting.

MATTER TO BE CONSIDERED: Briefing matter.

CONTACT PERSON FOR MORE INFORMATION: Alberta E. Mills, Office of the Secretary, U.S. Consumer Product Safety Commission, 4330 East West Highway, Bethesda, MD 20814, 301-504-7479 (Office) or 240-863-8938 (Cell).

Dated: March 5, 2025.
Alberta E. Mills,
Commission Secretary.

[FR Doc. 2025-03806 Filed 3-6-25; 11:15 am]

BILLING CODE 6355-01-P